NATIONAL AERONAUTICS AND SPACE ADMINISTRATION

[Notice 12-057]

NASA International Space Station Advisory Committee; Meeting

AGENCY: National Aeronautics and Space Administration (NASA).

ACTION: Notice of meeting.

SUMMARY: In accordance with the Federal Advisory Committee Act, Public Law 92-463, as amended, the National Aeronautics and Space Administration announces an open meeting of the NASA International Space Station (ISS) Advisory Committee. The purpose of the meeting is to assess NASA and Roscosmos continuing plans to support a six-person crew aboard the International Space Station, including transportation, and crew rotation; and, to assess the possibilities for using the ISS for future space exploration.

DATES: August 28, 2012, 1-2 p.m. Eastern Daylight Time.

ADDRESSES: NASA Headquarters, 300 E Street SW., Glennan Conference Room, 1Q39, Washington, DC 20546.

FOR FURTHER INFORMATION CONTACT: Dr. J. Donald Miller, Office of International and Interagency Relations, (202) 358-1527, National Aeronautics and Space Administration, Washington, DC 20546-0001.

SUPPLEMENTARY INFORMATION: It is imperative that the meeting be held on this date to accommodate the scheduling priorities of the key participants. This meeting will be open to the public up to the seating capacity of the room. Attendees will be requested to sign a register and to comply with NASA security requirements, including the presentation of a valid picture ID, before receiving an access badge. Foreign nationals attending this meeting will be required to provide a copy of their passport, visa, or green card in addition to providing the following information no less than ten working days prior to the meeting: Full name; gender; date/place of birth; citizenship; visa/green card information (number, type, expiration date); passport information (number, country, expiration date); employer/affiliation information (name of institution, address, country, phone); title/position of attendee, and an electronically scanned or faxed copy of their passport and visa. Send identifying information to Dr. Miller via email at j.d.miller@nasa.gov or by telephone at (202) 358-1527 or fax (202) 358-3030. To expedite admittance, attendees with U.S. citizenship or a green card may provide their full name, company affiliation (if applicable), and citizenship three working days in advance by contacting Dr. Miller via email at j.d.miller@nasa.gov or by telephone at (202) 358-1527.

Patricia D. Rausch,
Advisory Committee Management Officer, National Aeronautics and Space Administration.

[FR Doc. 2012-17037 Filed 7-11-12; 8:45 am]

BILLING CODE 7510-13-P